SECURITIES AND EXCHANGE COMMISSION

[OMB Control No. 3235-0504]

Proposed Collection; Comment Request; Extension: Rule 19b-4(e)

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“SEC” or “Commission”) is soliciting comments on the proposed collection of information.

Rule 19b-4(e), 17 CFR 240.19b-4(e), permits a self-regulatory organization (“SRO”) to list and trade a new derivative securities product without submitting a proposed rule change pursuant to Section 19(b) of the Act (15 U.S.C. 78s(b)), so long as such product meets the criteria of Rule 19b-4(e) under the Act. However, in order for the Commission to maintain an accurate record of all new derivative securities products traded on the SROs, Rule 19b-4(e) requires an SRO to publicly report certain information on its internet website using the most recent versions of the XML schema and the associated PDF renderer as published on the Commission's website for each new derivative securities product within five business days of beginning to trade such new derivative securities product. In addition, Rule 19b-4(e) requires an SRO to maintain, on-site, that information for a prescribed period of time.

This collection of information is designed to allow the Commission to maintain an accurate record of all new derivative securities products traded on the SROs that are not deemed to be proposed rule changes and to determine whether an SRO has properly availed itself of the permission granted by Rule 19b-4(e). The Commission reviews SRO compliance with Rule 19b-4(e) through its routine inspections of the SROs.

The respondents to the collection of information are SROs (as defined by the Act), all of which are national securities exchanges. As of July 15, 2025 there are twenty-eight entities registered as national securities exchanges with the Commission. The Commission receives an average total of 2,626 responses per year, which corresponds to an estimated annual response burden of 2,626 hours. At an average hourly cost of $72, the aggregate related internal cost of compliance with Rule 19b-4(e) is $189,072 (2,626 burden hours multiplied by $72/hour).

Compliance with Rule 19b-4(e) is mandatory. Information received in response to Rule 19b-4(e) shall not be kept confidential; the information collected is public information.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by September 22, 2025. There will be a second opportunity to comment on this SEC request following the Federal Register publishing a 30-Day Submission Notice.

Dated: July 17, 2025.
Sherry R. Haywood,
Assistant Secretary.

[FR Doc. 2025-13718 Filed 7-21-25; 8:45 am]

BILLING CODE 8011-01-P